DEPARTMENT OF ENERGY

Federal Energy Regulatory Commission

Combined Notice of Filings #1

Take notice that the Commission received the following electric corporate filings:

Docket Numbers: EC19-85-000.

Applicants: Convergent Energy and Power LP, Hazle Spindle, LLC, Stephentown Spindle, LLC, ECP ControlCo, LLC.

Description: Joint Application for Authorization Under Section 203 of the Federal Power Act, et al. of Convergent Energy and Power LP, et al.

Filed Date: 5/3/19.

Accession Number: 20190503-5160.

Comments Due: 5 p.m. ET 5/24/19.

Take notice that the Commission received the following electric rate filings:

Docket Numbers: ER19-1066-001.

Applicants: Nevada Power Company.

Description: Tariff Amendment: OATT Revision To Tariffs 05.03.19 to be effective 12/31/9998.

Filed Date: 5/6/19.

Accession Number: 20190506-5000.

Comments Due: 5 p.m. ET 5/28/19.

Docket Numbers: ER19-1379-001.

Applicants: Midcontinent Independent System Operator, Inc.

Description: Tariff Amendment: 2019-05-06_SA 3275 J438 POI Add 25 Mvar Cap Bank Sub MPFCA to be effective 3/20/2019.

Filed Date: 5/6/19.

Accession Number: 20190506-5097.

Comments Due: 5 p.m. ET 5/16/19.

Docket Numbers: ER19-1405-001.

Applicants: Precept Power LLC.

Description: Tariff Amendment: ADMENDMENT TO INITIAL TARIFF, WAIVERS AND BLANKET AUTHORITY to be effective 6/1/2019.

Filed Date: 5/6/19.

Accession Number: 20190506-5001.

Comments Due: 5 p.m. ET 5/28/19.

Docket Numbers: ER19-1535-000.

Applicants: Lower Mount Bethel Energy, LLC.

Description: Supplement to April 8, 2019 Lower Mount Bethel Energy, LLC tariff filing.

Filed Date: 5/2/19.

Accession Number: 20190502-5152.

Comments Due: 5 p.m. ET 5/23/19.

Docket Numbers: ER19-1695-000.

Applicants: California Transmission Project Corp.

Description: Amended Request for One-Time Limited Waiver, et al. of California Transmission Project Corp.

Filed Date: 5/3/19.

Accession Number: 20190503-5174.

Comments Due: 5 p.m. ET 5/24/19.

Docket Numbers: ER19-1781-000.

Applicants: MeterGenius, Inc.

Description: Baseline eTariff Filing: MeterGenius Market Base Rate Inital Tariff Filing to be effective 6/2/2019.

Filed Date: 5/3/19.

Accession Number: 20190503-5140.

Comments Due: 5 p.m. ET 5/24/19.

Docket Numbers: ER19-1782-000.

Applicants: Pacific Gas and Electric Company.

Description: § 205(d) Rate Filing: Amendment to the IA for the Stockton Port District (TO SA 117) to be effective 7/3/2019.

Filed Date: 5/3/19.

Accession Number: 20190503-5142.

Comments Due: 5 p.m. ET 5/24/19.

Docket Numbers: ER19-1783-000.

Applicants: Southern California Edison Company.

Description: § 205(d) Rate Filing: SCE Recollation of WDAT Filing 7 of 9 to be effective 5/1/2019.

Filed Date: 5/6/19.

Accession Number: 20190506-5002.

Comments Due: 5 p.m. ET 5/28/19.

Docket Numbers: ER19-1784-000.

Applicants: Public Service Company of Colorado.

Description: § 205(d) Rate Filing: PSCo-BLDR-T-2018-1-FASA&EDA-522-0.0.0 to be effective 5/7/2019.

Filed Date: 5/6/19.

Accession Number: 20190506-5056.

Comments Due: 5 p.m. ET 5/28/19.

Docket Numbers: ER19-1785-000.

Applicants: PJM Interconnection, L.L.C.

Description: § 205(d) Rate Filing: Original Upgrade CSA, SA No. 5357; Queue No. NQ-J468 to be effective4/4/2019.

Filed Date: 5/6/19.

Accession Number: 20190506-5060.

Comments Due: 5 p.m. ET 5/28/19.

Docket Numbers: ER19-1786-000.

Applicants: Duke Energy Progress, LLC.

Description: § 205(d) Rate Filing: DEP-Revised Rate Schedule No. 180 (Haywood EMC) to be effective11/1/2018.

Filed Date: 5/6/19.

Accession Number: 20190506-5087.

Comments Due: 5 p.m. ET 5/28/19.

Docket Numbers: ER19-1787-000.

Applicants: Riverhead Solar Farm, LLC.

Description: Baseline eTariff Filing: Riverhead Shared Facilities Agreement to be effective 5/7/2019.

Filed Date: 5/6/19.

Accession Number: 20190506-5089.

Comments Due: 5 p.m. ET 5/28/19.

Docket Numbers: ER19-1788-000.

Applicants: Duke Energy Progress, LLC.

Description: § 205(d) Rate Filing: DEP-Revised Rate Schedule No. 172 (Piedmont EMC) to be effective11/1/2018.

Filed Date: 5/6/19.

Accession Number: 20190506-5090.

Comments Due: 5 p.m. ET 5/28/19.

Docket Numbers: ER19-1789-000.

Applicants: Duke Energy Carolinas, LLC.

Description: § 205(d) Rate Filing: DEC-Amended Rate Schedule Nos. 315, 316, 317, and 335) to be effective 1/1/2018.

Filed Date: 5/6/19.

Accession Number: 20190506-5094.

Comments Due: 5 p.m. ET 5/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2019.
Kimberly D. Bose,
Secretary.

[FR Doc. 2019-09713 Filed 5-10-19; 8:45 am]

BILLING CODE 6717-01-P